SECURITIES AND EXCHANGE COMMISSION

Proposed Collection; Comment Request

Upon Written Request Copies Available From: Securities and Exchange Commission, Office of FOIA Services, 100 F Street NE, Washington, DC 20549-2736.

Rule 17g-8 & 9, SEC File No. 270-645, OMB Control No. 3235-0693.

Notice is hereby given that pursuant to the Paperwork Reduction Act of 1995 (44 U.S.C. 3501 et seq.), the Securities and Exchange Commission (“Commission”) is soliciting comments on the existing collection of information provided for in Rule 17g-8 and 17g-9 under the Securities Exchange Act of 1934 (15 U.S.C. 78a et seq.).¹ The Commission plans to submit this existing collection of information to the Office of Management and Budget for extension and approval.

¹ See 17 CFR 240.17g-1 and 17 CFR 249b.300.

Rule 17g-8 contains certain requirements for Nationally Recognized Statistical Rating Organizations (“NRSROs”) to have policies and procedures with respect to the procedures and methodologies the NRSRO uses to determine credit ratings, with respect to the symbols, numbers, or scores it uses to denote credit ratings, to address instances in which a look-back review determines that a conflict of interest influenced a credit rating, and to consider certain prescribed factors for an effective internal structure. Rule 17g-9 contains requirements for NRSROs to ensure that any person employed by an NRSRO to determine credit ratings meets standards necessary to produce accurate ratings. Currently, there are 10 credit rating agencies registered as NRSROs with the Commission. The Commission estimates that the total burden for respondents to comply with Rule 17g-8 is 1,450 hours and to comply with Rule 17g-9 is 25,004 hours.

Written comments are invited on: (a) Whether the proposed collection of information is necessary for the proper performance of the functions of the Commission, including whether the information shall have practical utility; (b) the accuracy of the Commission's estimates of the burden of the proposed collection of information; (c) ways to enhance the quality, utility, and clarity of the information on respondents; and (d) ways to minimize the burden of the collection of information on respondents, including through the use of automated collection techniques or other forms of information technology. Consideration will be given to comments and suggestions submitted in writing within 60 days of this publication.

The Commission may not conduct or sponsor a collection of information unless it displays a currently valid control number. No person shall be subject to any penalty for failing to comply with a collection of information subject to the PRA that does not display a valid Office of Management and Budget (OMB) control number.

Please direct your written comments to: Pamela Dyson, Director/Chief Information Officer, Securities and Exchange Commission, c/o Remi Pavlik-Simon, 100 F St NE, Washington, DC 20549 or send an email to: PRA_Mailbox@sec.gov.

Dated: February 9, 2018.
Eduardo A. Aleman,
Assistant Secretary.

[FR Doc. 2018-03096 Filed 2-14-18; 8:45 am]

BILLING CODE 8011-01-P